DEPARTMENT OF THE INTERIOR

National Park Service

National Register of Historic Places; Notification of Pending Nominations and Related Actions

Nominations for the following properties being considered for listing or related actions in the National Register were received by the National Park Service before September 22, 2007.

Pursuant to § 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington DC 20005; or by fax, 202-371-6447. Written or faxed comments should be submitted by October 24, 2007.

J. Paul Loether,
Chief, National Register of Historic Places, National Historic Landmarks Program.

COLORADO

Routt County

Mesa Schoolhouse, (Rural School Buildings in Colorado MPS), 33985 S. U.S. 40., Steamboat Springs, 07001113.

FLORIDA

Broward County

Thorpe, Alfred and Olive, Lustron House, 1001 NE. 2nd St., Fort Lauderdale, 07001114.

Lake County

Blandford, 28242 Lake Terry Dr., Mount Dora, 07001115.

IOWA

Fremont County

Tabor Antislavery Historic District, Park, Center, Orange & Elm Sts., Tabor, 07001117.

MARYLAND

Somerset County

Mt. Zion Memorial Church, 29071 Polks Rd., Princess Anne, 07001116.

Talbot County

Tidewater Inn, 101 E. Dover St., Easton, 07001118.

MISSOURI

Boone County

Wright Brothers Mule Barn, 1101-1107 Hinkson Ave. & 501-507 Fay St., Columbia, 07001119.

St. Louis Independent city, St. Luke's Plaza Apartments, 5602 through 5629 Enright Ave., St. Louis (Independent City), 07001120.

NEW YORK

Chemung County

Erste Deutsche Evangelische Kirche, 160 Madison Ave., Elmira, 07001121.

Trinity Church, 304 N. Main St., Elmira, 07001122.

Columbia County

Dorr, Dr. Joseph P., House, 2745 NY 23, Hillsdale, 07001123.

Onondaga County

Solvay Public Library, 615 Woods Rd., Solvay, 07001124.

Tefft—Steadman House, 18 North St., Marcellus, 07001125.

Orleans County

Millville Cemetery, E. Shelby Rd., Millville, 07001126.

Saratoga County

Wiggins—Collamer House, 450 E. High St., Malta, 07001127.

Washington County

McLean, Thomas, House, NY 29, Battenville, 07001128.

OREGON

Multnomah County

Failing Office Building, (Downtown Portland, Oregon MPS), 620 SW. 5th Ave., Portland, 07001129.

SOUTH CAROLINA

Greenwood County

Ware Shoals Inn, 1 Greenwood Ave. N., Ware Shoals, 07001130.

TEXAS

Harris County

Hill Street Bridge over Buffalo Bayou, (Historic Bridges of Texas MPS), S. Jensen Dr. at Buffalo Bayou, Houston, 07001131.

VIRGINIA

Botetourt County

Lauderdale, 13508 Lee Hwy., Buchanan, 07001132.

Carroll County

Point Pleasant School, Laurel Fork Rd., Laurel Fork, 07001133.

Charlottesville Independent City

Preston Court Apartments, 1600 Grady Ave., Charlottesville (Independent City), 07001134.

Clarke County

Greenway Historic District (Boundary Increase), 14374 Lord Fairfax Hwy., White Post, 07001135.

Cumberland County

Hamilton High School, 1925 Cartersville Rd., Cartersville, 07001136.

Emporia Independent City

Belfield—Emporia Historic District, Roughly bounded by the Petersburg & Danville RR, Atlantic Ave., Budd & Valley Sts., Emporia (Independent City), 07001137.

Fauquier County

Marshall's, John, Leeds Manor Rural Historic District, Centered along Leeds Manor Rd. from Leeds Church to Raven Ln., Markham, 07001138.

Grayson County

Fries Boarding Houses, 362 & 364 Grayson St., Fries, 07001139.

Lynchburg Independent City

Pyramid Motors, 405-407 Federal St., Lynchburg (Independent City), 07001140.

Petersburg Independent City

Cohen House, 32 S. Adams St., Petersburg (Independent City), 07001141.

Prince George County

Chester Plantation, 8401 Golf Course Dr., Disputanta, 07001142.

Rappahannock County

Scrabble School, (Rosenwald Schools in Virginia MPS), 111 Scrabble Rd., Castleton, 07001143.

Rockingham County

Peale, Jonathan, House, 67 Cross Keys Rd., Harrisonburg, 07001144.

Shenandoah County

Lantz Mill, 95 Swover Creek Rd., Edinburg, 07001145.

Wise County

Terrace Park Girl Scout Cabin, 211 Proctor St. N., Big Stone Gap, 07001146.

A request to MOVE has been made for the following resource:

NEW YORK

Suffolk County

Big Duck, The, NY 24, NW of jct. with Bellows Pond Rd., Town of Southampton, Flanders, 97000164.

A request for REMOVAL has been made for the following resources:

IOWA

Linn County

Mittvatsky House, 1035 2nd St. SE., Cedar Rapids, 75000695.

MINNESOTA

Blue Earth County

Mankato Holstein Farm Barn, (Blue Earth County MRA), Cty. Rd. 5, Lime Twp., Mankato, 80001951.

[FR Doc. 07-4961 Filed 10-5-07; 8:45 am]

BILLING CODE 4312-51-P